NATIONAL AERONAUTICS AND SPACE ADMINISTRATION

[Notice (11-087)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Thursday, November 3, 2011, 8 a.m.-5 p.m., Local Time Friday, November 4, 2011, 8 a.m.—12 p.m., Local Time.

ADDRESSES: NASA Goddard Space Flight Center (GSFC), Building 1, Rooms E100 D and E, 8800 Greenbelt Road, Greenbelt, MD 20771-0001. (Note that visitors will first need to go to the GSFC Main Gate to be gain access.)

FOR FURTHER INFORMATION CONTACT: Ms. Marla King, NASA Advisory Council Administrative Officer, National Aeronautics and Space Administration, Washington, DC, 20546, 202-358-1148.

SUPPLEMENTARY INFORMATION: The agenda for the meeting will include reports from the Council Committees:

—Aeronautics

—Audit, Finance and Analysis

—Commercial Space

—Education and Public Outreach

—Human Exploration and Operations

—Information Technology Infrastructure

—Science

—Technology and Innovation

The meeting will be open to the public up to the seating capacity of the room. This meeting is also available telephonically and by WebEx. You must use a touch-tone phone to participate in this meeting. Any interested person may dial access number, 1-866-763-9688 and then enter the numeric participant passcode: 9881819 followed by the # sign. To join via WebEx the link is https://nasa.webex.com/, meeting number on November 3, 2011, is 994-272-311, and password # # 78k!23?P#. On Friday, November 4, 2011, the meeting number will be 994-272-311, and password # # 78k!23?P#. Visitors will need to show a valid picture identification such as a driver's license to enter into the NASA Goddard Space Flight Center, and must state that they are attending the NASA Advisory Council meeting in Building 1. All U.S. citizens desiring to attend the NASA Advisory Council Meeting at the Goddard Space Flight Center (GSFC) must provide their full name, company affiliation (if applicable), to the GSFC Protective Services Division no later than the close of business on October 28, 2011.

All non-U.S. citizens must submit their name, current address, citizenship, company affiliation (if applicable) to include address, telephone number, and their title, place of birth, date of birth, U.S. visa information to include type, number, and expiration date, U.S. Social Security Number (if applicable), Permanent Resident card number and expiration date (if applicable), place and date of entry into the U.S., and passport information to include country of issue, number, and expiration date to the GSFC Security Office no later than the close of business on October 19, 2011.

If the above information is not received by the noted dates, attendees should expect a minimum delay of two (2) hours. All visitors to this meeting will report to the Main Gate where they will be processed through security prior to entering GSFC. Please provide the appropriate data, via fax 301-286-1230, noting at the top of the page “Public Admission to the NASA Advisory Council Meeting at GSFC.” For security questions, please contact Pam Starling by phone at 301-286-6865, or by e-mail at pamela.a.starling@nasa.gov, or alternate Debbie Brasel by phone at 301-286-6876, or by e-mail at deborah.a.brasel@nasa.gov.

Dated October 7, 2011.
P. Diane Rausch,
Advisory Committee Management Officer, National Aeronautics and Space Administration.

[FR Doc. 2011-26730 Filed 10-14-11; 8:45 am]

BILLING CODE 7510-13-P